DEPARTMENT OF THE TREASURY

Office of the Comptroller of the Currency

12 CFR Part 25

[Docket No. 05-06]

RIN 1557-AC86

FEDERAL RESERVE SYSTEM

12 CFR Part 228

[Regulation BB; Docket No. R-1205]

FEDERAL DEPOSIT INSURANCE CORPORATION

12 CFR Part 345

RIN 3064-AC82

DEPARTMENT OF THE TREASURY

Office of Thrift Supervision

12 CFR Part 563e

[No. 2005-06]

RIN 1550-AB91

Community Reinvestment Act Regulations

AGENCIES: Office of the Comptroller of the Currency, Treasury (OCC); Board of Governors of the Federal Reserve System (Board); Federal Deposit Insurance Corporation (FDIC); and Office of Thrift Supervision, Treasury (OTS).

ACTION: Joint final rule.

SUMMARY: The OCC, Board, FDIC, and OTS (collectively, “we” or “the agencies”) are adopting, in final form, without change, the joint interim rule that was published for comment in the Federal Register on July 8, 2004. This joint final rule conforms our regulations implementing the Community Reinvestment Act (CRA) to changes in: the Standards for Defining Metropolitan and Micropolitan Statistical Areas published by the U.S. Office of Management and Budget (OMB) in December 2000; census tracts designated by the U.S. Census Bureau (Census); and the Board's Regulation C, which implements the Home Mortgage Disclosure Act (HMDA). The joint final rule also makes a technical correction to a cross-reference within our CRA regulations. This joint final rule does not make substantive changes to the requirements of the CRA regulations, and it is identical to the joint interim final rule adopted by the agencies.

DATES: This joint final rule is effective on March 28, 2005.

FOR FURTHER INFORMATION CONTACT: OCC: Karen Tucker, National Bank Examiner, Compliance Policy Division, (202) 874-4428; Margaret Hesse, Special Counsel, Community and Consumer Law Division, (202) 874-5750; or Patrick T. Tierney, Attorney, Legislative and Regulatory Activities Division, (202) 874-5090, Office of the Comptroller of the Currency, 250 E Street, SW., Washington, DC 20219.

Board: William T. Coffey, Senior Review Examiner, (202) 452-3946; Catherine M.J. Gates, Oversight Team Leader, (202) 452-3946; Kathleen C. Ryan, Counsel, (202) 452-3667; or Dan S. Sokolov, Senior Attorney, (202) 452-2412, Division of Consumer and Community Affairs, Board of Governors of the Federal Reserve System, 20th Street and Constitution Avenue, NW., Washington, DC 20551.

FDIC: Pamela Freeman, Policy Analyst, (202) 898-6568, Division of Supervision and Consumer Protection; Susan van den Toorn, Counsel, (202) 898-8707; or Richard M. Schwartz, Counsel, (202) 898-7424, Legal Division, Federal Deposit Insurance Corporation, 550 17th Street, NW., Washington, DC 20429.

OTS: Celeste Anderson, Project Manager, Compliance Policy, (202) 906-7990; or Richard Bennett, Counsel, Regulations and Legislation Division, (202) 906-7409, Office of Thrift Supervision, 1700 G Street, NW., Washington, DC 20552.

SUPPLEMENTARY INFORMATION:

Introduction

On July 8, 2004, the agencies published a joint interim rule with request for comment in the Federal Register (69 FR 41181) that amended our regulations implementing the CRA (12 U.S.C. 2901 et seq.). The joint interim rule conformed the agencies' CRA regulations to recent actions of OMB, Census, and the Board.¹ Together, the agencies received nine discrete comments: six from community organizations, two from financial institutions, and one from an industry trade organization.

¹ The joint rulemaking is not related to the agencies' comprehensive review of the CRA regulations and the proposed revisions to the regulations that were published for comment on February 6, 2004, at 69 FR 5729.

Summary of Changes Made by the Joint Interim Rule and Comments Received

Changes Resulting From OMB Revisions

OMB updates its standards for defining statistical areas approximately every 10 years. The agencies' CRA regulations use OMB's standards for defining metropolitan areas for purposes of CRA data collection and reporting, and for delineating institutions' assessment area(s). Under OMB's 1990 standards, metropolitan areas consisted of: (1) metropolitan statistical areas (MSAs) and (2) larger consolidated metropolitan statistical areas (CMSAs). These CMSAs consisted of primary metropolitan statistical areas (PMSAs).

In 2000, OMB adopted new Standards for Defining Metropolitan and Micropolitan Statistical Areas, which replaced OMB's 1990 standards. 65 FR 82228 (Dec. 27, 2000). The 2000 standards retain the basic concept of an MSA (an area with at least 50,000 population), but divided MSAs having a single core with a population of at least 2.5 million into “metropolitan divisions.” OMB directed all agencies that conduct statistical activities to collect and publish data for MSAs using the most recent definition of the area.² The joint interim rule made several changes to the CRA regulations to incorporate OMB's new standards and definitions.

² See OMB Bulletin No. 03-04 (June 6, 2003), available at http://www.whitehouse.gov/omb/bulletins/b03-04.html and OMB Bulletin No. 04-03 (Feb. 18, 2004), available at http://www.whitehouse.gov/omb/bulletins/fy04/b04-03.html.

The joint interim rule removed the definition of “CMSA” and all references to CMSAs because OMB no longer uses that term. As discussed below, where the regulations referred to CMSAs, the joint interim rule replaced “CMSA” with “MSA.”

The joint interim rule revised the definition of “MSA” to remove the reference to PMSA, another term that OMB no longer uses. The revised definition of “MSA” refers only to metropolitan statistical areas, as defined by OMB (12 CFR 25.12(r), 228.12(r), 345.12(r), and 563e.12(q)).

We added a definition of “metropolitan division” in the joint interim rule because in certain large MSAs, OMB has delineated “metropolitan divisions,” which are the statistical areas for which the agencies have determined that CRA data are to be reported, median family income is to be calculated, and within which an institution's CRA performance is to be evaluated (12 CFR 25.12(q), 228.12(q), 345.12(q) and 563e.12(p)).

Next, the joint interim rule clarified that an institution may designate an assessment area that includes one or more metropolitan divisions within a large MSA (12 CFR 25.41, 228.41, 345.41, and 563e.41), just as an institution previously could have designated an assessment area that included one or more PMSAs. Although the agencies' regulations prior to publication of the joint interim rule allowed an institution to delineate an entire CMSA as an assessment area, examiners evaluated CRA performance at the PMSA level using PMSA income data. The joint interim rule's supplementary information section explained that examiners similarly will evaluate CRA performance at the metropolitan division level in those MSAs that are divided into metropolitan divisions, even if the institution delineates an assessment area of more than one metropolitan division, an entire MSA, or more than one contiguous MSA.

Prior to the adoption of the joint interim rule, 12 CFR 25.41(e)(4), 228.41(e)(4), 345.41(e)(4), and 563e.41(e)(4) stated that an assessment area “[m]ay not extend substantially beyond a CMSA boundary * * *.” The joint interim rule changed these provisions to replace “CMSA” with “MSA” to conform the terminology to the new OMB area standards. The regulations still allow an institution to delineate an assessment area consisting of more than one contiguous MSA. See 12 CFR 25.41(c)(1), 228.41(c)(1), 345.41(c)(1), and 563e.41(c)(1). The border of such an assessment area, however, may not extend substantially beyond the boundaries of the MSAs in the assessment area.

Finally, the joint interim rule added a new definition of “nonmetropolitan area,” which is any area that is not included in an MSA (12 CFR 25.12(s), 228.12(s), 345.12(s), and 563e.12(r)).³ In a related matter, the joint interim rule changed the agency-prepared annual aggregate disclosure statements to include a statement for the “nonmetropolitan portion of each state” rather than the “non-MSA portion of each state,” which was the language prior to the change, to ensure consistent terminology throughout the regulation. See 12 CFR 25.42(i), 228.42(i), 345.42(i), and 563e.42(i).

³ As we noted in the supplementary information section of the joint interim rule, a “micropolitan statistical area” is a new statistical area, defined by OMB in 2000, that is a “nonmetropolitan area.” 69 FR at 41184. A micropolitan statistical area is a “core-based statistical area” (as is an MSA), and has at least one urban cluster that has a population of at least 10,000, but less than 50,000.

Some community organizations commented that financial institutions should be required to designate an assessment area consisting of an entire MSA, rather than having the option to designate an assessment area limited to one or more metropolitan divisions within an MSA. They were concerned that the option to choose a metropolitan division would allow institutions to exclude from their assessment area(s) the urban areas in the Detroit-Livonia-Warren MSA, and in other large MSAs that are divided into metropolitan divisions. As discussed in the supplementary information section of the joint interim rule, OMB's boundaries cause some census tracts in the Detroit-Livonia-Dearborn Metropolitan Division (which consists only of Wayne County and represents the urban center of Detroit) to change classification from moderate-to middle-income, while some census tracts in the suburban Warren-Farmington Hills-Troy Metropolitan Division change classification from middle-to moderate-income. 69 FR 41183 (July 8, 2004). The commenters argued that institutions will be encouraged by these changes to exercise their option to include only the suburban metropolitan division(s) in their assessment area(s).

The agencies have carefully considered the commenters' concern. However, for the following reasons, we are not adopting the suggested change. The change advocated by the commenters would represent a significant departure from the CRA regulations regarding assessment area delineation, which allow institutions to delineate assessment areas smaller or larger than an entire MSA, if certain conditions are met. Under the 1995 CRA regulations, an assessment area can be as small as the census tracts in which the institution has its main office, its branches, and its deposit-taking ATMs; or a political subdivision such as a city, county, or town; or it could consist of a single PMSA, an entire MSA, or a CMSA, if the conditions are met.⁴ One of the conditions has been, and continues to be, that the area designated does not arbitrarily exclude low-or moderate-income geographies or reflect illegal discrimination.⁵ Further, the regulations allow, and continue to allow, institutions to delineate assessment areas smaller than an entire MSA. An institution can delineate assessment areas that are political subdivisions and may even adjust the boundaries of its assessment areas to include only the portion of a political subdivision that it reasonably can be expected to serve. An adjustment is particularly appropriate in the case of an assessment area that otherwise would be extremely large, of unusual configuration, or divided by significant geographic barriers.⁶ Requiring institutions to delineate assessment areas no smaller than an entire MSA may be unreasonable for institutions that have delineated smaller assessment areas based on their institutional size, capacity, and business strategy.

⁴ See 12 CFR 25.41(c) & (d), 228.41(c) & (d), 345.41(c) & (d), and 563e.41(c) & (d) in effect prior to the changes adopted by the joint interim rule; see also Interagency Questions and Answers Regarding Community Reinvestment, 66 FR 36620, 36640-41 (July 12, 2001) (hereinafter Qs and As) (questions and answers addressing § _.41(c) & (d)).

⁵ 12 CFR 25.41(e)(2) & (3), 228.41(e)(2) & (3), 345.41(e)(2) & (3), and 563e.41(e)(2) & (3). Redlining violates the Equal Credit Opportunity Act, 15 U.S.C. 1691 et seq., and the Fair Housing Act, 42 U.S.C. 3601 et seq. Evidence of discriminatory credit practices adversely affects an agency's evaluation of an institution's performance under the CRA. 12 CFR 25.28(c), 228.28(c), 345.28(c), and 563e.28(c).

⁶ 12 CFR 25.41(d), 228.41(d), 345.41(d), and 563e.41(d). See also Qs and As at 66 FR 36641 (question and answer § _.41(d)-1 (Adjustments to Geographic Area(s))).

Unusual assessment area concerns, such as those presented by the Detroit-Livonia-Warren MSA, can be better addressed by examiners on a case-by-case basis, using the current CRA regulations and examination procedures.⁷ The CRA regulations continue to prohibit delineating assessment areas that reflect illegal discrimination or that arbitrarily exclude low-or moderate-income neighborhoods.⁸ If an institution in Detroit, or another MSA, changes its assessment area(s) to exclude urban areas, examiners will look at factors such as income levels inside and outside an institution's assessment area, the institution's size, financial condition, where it lends, and its business strategy to determine whether the institution is engaging in redlining.⁹ Further, in the service test, examiners consider branch distribution among geographies of different income categories and branch closings, particularly in low- and moderate-income geographies. Examination staffs at all of the agencies are aware of the new OMB boundaries and the potential impact on income level classifications. The agencies believe that these provisions are sufficient to prevent institutions from inappropriately redrawing their assessment areas to exclude urban metropolitan divisions.

⁷ As noted in the supplementary information section of the joint interim rule, many of the 11 MSAs that were subdivided into metropolitan divisions experienced no or negligible change in census tract income level classification because of the OMB changes, based on Board staff estimates. For example, in the following MSAs, 0 percent to 0.05 percent of census tracts changed from either moderate-income to middle-income, or from middle-income to moderate-income, as a result of OMB's boundaries: Dallas-Fort Worth-Arlington; Los Angeles-Long Beach-Santa Ana; Miami-Ft. Lauderdale-Miami Beach; San Francisco-Oakland-Fremont; and Seattle-Tacoma-Bellevue.

⁸ 12 CFR 25.41(e)(3), 228.41(e)(3), 345.41(e)(3), and 563e.41(e)(3).

⁹ See Qs and As at 66 FR 36641 (particularly questions and answers § _.41(d)-1 (Adjustments to Geographic Area(s)) and § _.41(e)(3)-1 (May Not Arbitrarily Exclude Low-or Moderate-Income Geographies)).

Finally, the agencies do not believe that the joint final rule will result in wholesale redlining of urban Detroit as commenters suggested. Data from 2003 on the branch locations and assessment area(s) of the 32 institutions in Detroit that were deemed “large” for CRA purposes suggest that a substantial majority of those institutions would not exclude the urban metropolitan division from their assessment area(s). Specifically, 20 of the large institutions in Detroit had at least one branch in Wayne County. Of the 20 institutions, 16 had assessment areas that included Wayne County and the suburban counties, and had branches in both Wayne County and the suburban counties. Three institutions had assessment areas and branches only in Wayne County, and one had assessment areas that included both Wayne County and the suburban counties, but had branches only in Wayne County. Thus, those institutions cannot entirely exclude the Detroit-Livonia-Dearborn Metropolitan Division from their assessment area(s).¹⁰

¹⁰ One additional institution included Wayne County in its assessment area and had branches only in the suburban Detroit counties. Eleven institutions had branches and assessment area(s) only in the suburban counties that make up the Warren-Farmington Hills-Troy Metropolitan Division.

One financial institution commenter suggested that, rather than replacing the term “CMSA” with “MSA”, the agencies should have replaced “CMSA” with “CSA” (combined statistical area), another new area standard that OMB adopted in 2000. The agencies believe that it may be appropriate for some institutions to delineate an assessment area based on a CSA. The agencies have not, however, made the suggested change to the regulation because a CSA is not the direct equivalent of a CMSA under the 1990 standards. A CMSA was an MSA with a population of at least 1 million; in contrast, a CSA may be much smaller or much larger than a CMSA in population. For example, a CSA may consist of two Micropolitan Statistical Areas. The Micropolitan Statistical Area is a new statistical unit introduced in the 2000 standards and consists of an area with a population between 10,000 and 49,999. On the other hand, a CSA may be quite populous; it may consist of three or more MSAs and multiple Micropolitan Statistical Areas. Therefore, the agencies believe that whether an assessment area should consist of a CSA is best left to each institution, considering its size, business strategy, capacity, and constraints, and subject to review by the appropriate Federal financial institution supervisory agency. Further, if an institution designates an assessment area that consists of a CSA that includes an MSA and a Micropolitan Statistical Area, the examiner must separately evaluate performance in the MSA and the Micropolitan Statistical Area (i.e., the nonmetropolitan area) because each of these areas has a distinct median family income.

For the reasons set forth above, the agencies are adopting as final the provisions conforming our regulations to OMB's statistical area changes as they were published in the joint interim rule.

Changes Resulting From Census Revisions

Prior to the joint interim rule, the CRA regulations defined the term “geography” as “a census tract or a block numbering area delineated by the United States Bureau of the Census in the most recent decennial census.” Beginning with Census 2000, the U.S. Census Bureau assigned census tracts in all counties, making block numbering areas unnecessary.¹¹ Therefore, in the joint interim rule, we changed the regulations' definition of “geography” to omit the term “block numbering area” (12 CFR 25.12(k), 228.12(k), 345.12(k), and 563e.12(j)).

¹¹ See, e.g., U.S. Census Bureau, Geographic Terms and Concepts (definition of “census tract”) available at http://www.census.gov/geo/www/tiger/glossry2.html#CensusTract.

The agencies did not receive any comments addressing this change. Accordingly, the agencies are adopting the change based on Census revisions without modification. We are adopting this change as final as it was published in the joint interim rule.

Changes Resulting From Revisions to the Board's Regulation C

Prior to the joint interim rule, the CRA regulations defined a “home mortgage loan” to mean a “home improvement loan” or a “home purchase loan” as defined in the regulations implementing the Home Mortgage Disclosure Act (12 CFR part 203). The interagency CRA guidance that we published clarified that this definition of “home mortgage loan” also included refinancings of home improvement and home purchase loans.¹²

¹² See Qs and As at 66 FR 36628 (July 12, 2001) (question and answer §§ _.12(m) & 563e.12(l)-1).

The Board substantially revised the HMDA regulation (Regulation C) in 2002, effective January 1, 2004.¹³ Revised Regulation C defined the term, “refinancing,” so that a loan is reportable as a refinancing if it satisfies and replaces an existing obligation, and both the new and the existing obligation are secured by a lien on a dwelling. 12 CFR 203.2(k). As a result of the revisions to Regulation C, we changed the definition of “home mortgage loan,” found at 12 CFR 25.12(l), 228.12(l), 345.12(l), and 563e.12(k), to include refinancings, as well as home purchase loans and home improvement loans, as defined in the Board's regulations at 12 CFR 203.2.

¹³ 67 FR 7222 (Feb. 15, 2002); 67 FR 30771 (May 8, 2002).

As we noted in the supplementary information section of the joint interim rule, because of the change in the Regulation C definition, loans to refinance small business or small farm loans, where a dwelling continues to serve as collateral solely through an abundance of caution, will now be reportable as refinancings under Regulation C. Those loans will also be reportable for Call Report and Thrift Financial Report purposes as small business or small farm loans, resulting in the potential for “double counting” of these loans in CRA examinations. See 69 FR 41184-85.

Two community organization commenters asserted that our CRA regulations should prohibit such double reporting of small business loans and small farm loans secured by residential real estate for purposes of CRA. The agencies are not changing the CRA regulation to address the commenters' suggestion. The suggested change would likely increase the data collection and reporting burden for financial institutions, without increasing the effectiveness of CRA examinations. As stated in the supplementary information to the joint interim rule, the agencies do not anticipate that “double-reported” loans will be so numerous as to affect the typical institution's CRA rating. In the event that an institution reports a significant number or amount of loans as both home mortgage and small business or farm loans, examiners will consider that overlap in evaluating the institution's performance.

Accordingly, the agencies are adopting the change based on the Board's Regulation C revisions without modification. We are adopting this change as it was published in the joint interim rule.

Technical Correction

The joint interim rule also corrected an error in the cross-reference found in 12 CFR 25.27(g)(1), 228.27(g)(1), 345.27(g)(1), and 563e.27(g)(1). Those provisions, which address the time for an agency's decision following receipt of a completed strategic plan, previously referred the reader to paragraph (d) of 12 CFR 25.27, 228.27, 345.27, or 563e.27, respectively, for a description of the materials that had to be included with a strategic plan submission. This information is found instead in paragraph (e) of 12 CFR 25.27, 228.27, 345.27, or 563e.27. Therefore, we corrected the cross-references in 12 CFR 25.27(g)(1), 228.27(g)(1), 345.27(g)(1), and 563e.27(g)(1) to refer to paragraph (e) of 12 CFR 25.27, 228.27, 345.27, and 563e.27, respectively.

The agencies did not receive any comments addressing this technical correction. Accordingly, the agencies are adopting the technical correction that was published in the joint interim rule as final without modification.

General Comment

A financial industry trade association commented that inasmuch as the changes to the CRA regulations are designed to coordinate the CRA rules with existing regulatory changes, it does not object to the revisions. However, the commenter pointed out that these types of changes add to the regulatory burden for the small community bank. The agencies are aware that many regulatory changes impact regulated entities in some manner. However, the changes made by the joint interim rule and this joint final rule are necessary because institutions could not have complied with the regulations as previously written. For example, some of the statistical areas referenced in the previous regulations no longer exist.

Effective Date

The Administrative Procedure Act provides that, subject to several exceptions, a substantive rule may not be made effective until 30 days after publication in the Federal Register. 5 U.S.C. 553(d). However, an agency may make a rule immediately effective upon publication if the agency finds good cause for doing so and publishes its findings with the rule. Likewise, section 302 of the Riegle Community Development and Regulatory Improvement Act of 1994 (CDRI), Public Law 103-325, authorizes a banking agency to issue a rule to be effective before the first day of the calendar quarter that begins on or after the date on which the regulations are published in final form if the agency finds good cause for an earlier effective date. 12 U.S.C. 4802(b)(1)(B).

As described in the supplementary information section of the joint interim rule, the agencies found good cause to dispense with the 30-day delayed effective date pursuant to 5 U.S.C. 553(d)(3). The agencies also determined that good cause existed to adopt an effective date that is before the first day of the calendar quarter that begins on or after the date on which the regulation is published, as would otherwise be required by section 302 of the CDRI (12 U.S.C. 4802(b)(1)(B)). The joint interim rule became effective upon publication because financial institutions must use the new statistical area standards and definitions when adjusting assessment area delineations and collecting loan data during calendar year 2004 (beginning with loans made as of January 1, 2004) for reporting by March 1, 2005. The changes adopted in the joint interim rule merely conformed our CRA regulations to recent changes by OMB, Census, and the Board and corrected a cross-reference—they were not substantive. That reasoning also applies to the joint final rule, which is identical to the joint interim rule. Accordingly, the agencies conclude that it is unnecessary and contrary to public interest to delay the effective date of this joint final rule.

Regulatory Analysis

Paperwork Reduction Act

There are no information collection requirements in this joint final rule.

Regulatory Flexibility Act

Pursuant to section 605(b) of the Regulatory Flexibility Act (5 U.S.C. 605(b)), the OCC, Board, FDIC, and OTS hereby certify that this joint final rule will not have a significant economic impact on a substantial number of small entities. The agencies expect that this joint final rule will not have significant secondary or incidental effects on a substantial number of small entities or create any additional burden on small entities. This joint final rule merely confirms that the joint interim rule, which made a technical correction and conformed terminology in the current CRA regulations to terms and definitions already adopted by OMB, Census, and the Board, is final. Accordingly, a regulatory flexibility analysis is not required.

OCC and OTS Executive Order 12866 Determinations

The OCC and the OTS have determined that this joint final rule is not a significant regulatory action as defined in Executive Order 12866.

OCC and OTS Unfunded Mandates Reform Act of 1995 Determinations

Section 202 of the Unfunded Mandates Reform Act of 1995 (Unfunded Mandates Act) (2 U.S.C. 1532) requires that covered agencies prepare a budgetary impact statement before promulgating a rule that includes any Federal mandate that may result in the expenditure by State, local, and tribal governments, in the aggregate, or by the private sector, of $100 million or more in any one year. If a budgetary impact statement is required, section 205 of the Unfunded Mandates Act also requires covered agencies to identify and consider a reasonable number of regulatory alternatives before promulgating a rule. The OCC and OTS have determined that this joint final rule will not result in expenditures by State, local, and tribal governments, or by the private sector, of $100 million or more in any one year. Accordingly, neither agency has prepared a budgetary impact statement or specifically addressed the regulatory alternatives considered.

The Treasury and General Government Appropriations Act, 1999—Assessment of Impact of Federal Regulation on Families

The FDIC has determined that this joint final rule will not affect family well-being within the meaning of section 654 of the Treasury and General Government Appropriations Act, enacted as part of the Omnibus Consolidated and Emergency Supplemental Appropriations Act of 1999, Public Law 105-277 (5 U.S.C. 601 note).

OCC Executive Order 13132 Determination

The OCC has determined that this joint final rule does not have any Federalism implications, as required by Executive Order 13132.

List of Subjects

12 CFR Part 25

Community development, Credit, Investments, National banks, Reporting and recordkeeping requirements.

12 CFR Part 228

Banks, Banking, Community development, Credit, Investments, Reporting and recordkeeping requirements.

12 CFR Part 345

Banks, Banking, Community development, Credit, Investments, Reporting and recordkeeping requirements.

12 CFR Part 563e

Community development, Credit, Investments, Reporting and recordkeeping requirements, Savings associations.

Department of the Treasury

Office of the Comptroller of the Currency

12 CFR Chapter I

PART 25—COMMUNITY REINVESTMENT ACT AND INTERSTATE DEPOSIT PRODUCTION REGULATIONS

Accordingly, the joint interim rule amending 12 CFR part 25, which was published at 69 FR 41181 on July 8, 2004, is adopted as a joint final rule without change.

Board of Governors of the Federal Reserve System

12 CFR Chapter II

PART 228—COMMUNITY REINVESTMENT (REGULATION BB)

Accordingly, the joint interim rule amending 12 CFR part 228, which was published at 69 FR 41181 on July 8, 2004, is adopted as a joint final rule without change.

Federal Deposit Insurance Corporation

12 CFR Chapter III

PART 345—COMMUNITY REINVESTMENT

Accordingly, the joint interim rule amending 12 CFR part 345, which was published at 69 FR 41181 on July 8, 2004, is adopted as a joint final rule without change.

Department of the Treasury

Office of Thrift Supervision

12 CFR Chapter V

PART 563e—COMMUNITY REINVESTMENT

Accordingly, the joint interim rule amending 12 CFR part 563e, which was published at 69 FR 41181 on July 8, 2004, is adopted as a joint final rule without change.

Dated: February 14, 2005.
Julie L. Williams,
Acting Comptroller of the Currency.
By order of the Board of Governors of the Federal Reserve System, March 2, 2005.
Jennifer J. Johnson,
Secretary of the Board.
Dated: March 18, 2005.
By Order of the Board of Directors of the Federal Deposit Insurance Corporation.
Robert E. Feldman,
Executive Secretary.
Dated: February 11, 2005.
By the Office of Thrift Supervision.
James E. Gilleran,
Director.

[FR Doc. 05-5983 Filed 3-25-05; 8:45 am]

BILLING CODE 4810-33-P; 6210-01-P; 6714-01-P; 6720-01-P